DEPARTMENT OF COMMERCE

International Trade Administration

[C-570-931]

Circular Welded Austenitic Stainless Pressure Pipe From the People's Republic of China: Countervailing Duty Order

AGENCY: Import Administration, International Trade Administration, Department of Commerce.

SUMMARY: Based on affirmative final determinations by the Department of Commerce (the Department) and the International Trade Commission (ITC), the Department is issuing a countervailing duty order on circular welded austenitic stainless pressure pipe (CWASPP) from the People's Republic of China (PRC).

Effective Date: March 19, 2009.

Contact Information: Robert Copyak, AD/CVD Operations, Office 3, Import Administration, International Trade Administration, U.S. Department of Commerce, 14th Street and Constitution Avenue, NW., Washington, DC 20230; telephone: (202) 482-2209.

SUPPLEMENTARY INFORMATION:

Background

On January 28, 2009, the Department published its final determination in the countervailing duty investigation on CWASPP from the PRC. See Circular Welded Austenitic Stainless Pressure Pipe from the People's Republic of China: Final Affirmative Countervailing Duty Determination, 74 FR 4936 (January 28, 2009) (Final Determination). On March 11, 2009, the ITC notified the Department of its final determination pursuant to section 705(b)(1)(A)(i) of the Tariff Act of 1930, as amended (the Act), that an industry in the United States is materially injured by reason of subsidized imports of subject merchandise from the PRC. See Letter from the ITC to the Secretary of Commerce, “Notification of Final Affirmative Determination of Welded Stainless Pressure Pipe from China (Investigation Nos. 701-TA-454 and 731-TA-1144 (Final), USITC Publication 4064, March 2009),” March 11, 2009. Pursuant to section 736(a) of the Act, the Department is publishing a countervailing duty order on the subject merchandise.

Scope of the Order

The merchandise covered by this investigation is circular welded austenitic stainless pressure pipe not greater than 14 inches in outside diameter. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005, 7306.40.5040, 7306.40.5062, 7306.40.5064, and 7306.40.5085 of the Harmonized Tariff Schedule of the United States. They may also enter under HTSUS subheadings 7306.40.1010, 7306.40.1015, 7306.40.5042, 7306.40.5044, 7306.40.5080, and 7306.40.5090. The HTSUS subheadings are provided for convenience and customs purposes only; the written description of the scope is dispositive.

Countervailing Duty Order

In accordance with section 705(d) of the Act on January 28, 2009, the Department published its final determination in the countervailing duty investigation of CWASPP from the PRC. See Final Determination, 74 FR 4936. On February 5, 2009, the Department terminated suspension of liquidation in accordance with 703(d) of the Act, effective November 7, 2008. Section 703(d) of the Act states that the suspension of liquidation pursuant to a preliminary determination may not remain in effect for more than four months.

On March 11, 2009, in accordance with section 705(d) of the Act, the ITC notified the Department of its final determination that the industry in the United States producing welded stainless steel pressure pipe is materially injured within the meaning of section 705(b)(1)(A)(i) of the Act by reason of subsidized imports of welded stainless steel pressure pipe from the PRC. Therefore, countervailing duties will be assessed on all unliquidated entries of CWASPP from the PRC entered or withdrawn from warehouse, for consumption, on or after July 10, 2008, the date on which the Department published its preliminary affirmative countervailing duty determination in the Federal Register, and before November 7, 2008, the date on which the Department instructed CBP to discontinue the suspension of liquidation in accordance with section 703(d) of the Act. See Circular Welded Austenitic Stainless Pressure Pipe From the People's Republic of China: Preliminary Affirmative Countervailing Duty Determination and Alignment of Final Countervailing Duty Determination with Final Antidumping Duty Determination, 73 FR 39657 (July 10, 2008). Entries of CWASPP made on or after November 7, 2008, and prior to the date of publication of the ITC's final determination in the Federal Register are not liable for the assessment of countervailing duties due to the Department's discontinuation, effective November 7, 2008, of the suspension of liquidation.

In accordance with section 706(a)(1) of the Act, the Department will direct U.S. Customs and Border Protection (CBP) to assess, upon further instruction by the Department, countervailing duties equal to the amounts of the net countervailable subsidy for all relevant entries of CWASPP from the PRC.

In accordance with section 706 of the Act, the Department will direct CBP to suspend liquidation, effective the date of publication of the ITC's final determination in the Federal Register, and to require a cash deposit for each entry of the subject merchandise in an amount based on the net countervailable subsidy rates for the subject merchandise as noted in the Final Determination.

This notice constitutes the countervailing duty order with respect to CWASPP from the PRC pursuant to section 706(a) of the Act. Interested parties may contact the Department's Central Records Unit, Room 1117 of the main Department Building, for copies of an updated list of countervailing duty orders currently in effect.

This countervailing duty order is issued and published in accordance with section 706(a) of the Act and 19 CFR 351.211.

Dated: March 16, 2009.
John M. Andersen,
Acting Deputy Assistant Secretary for Antidumping and Countervailing Duty Operations.

[FR Doc. E9-6103 Filed 3-17-09; 4:15 pm]

BILLING CODE 3510-DS-P